DEPARTMENT OF HEALTH AND HUMAN SERVICES

Food and Drug Administration

21 CFR Parts 5 and 16

[Docket No. 02N-0251]

Presiding Officers at Regulatory Hearings; Confirmation of Effective Date

AGENCY: Food and Drug Administration, HHS.

ACTION: Final rule; confirmation of effective date.

SUMMARY: The Food and Drug Administration (FDA) is confirming the effective date of January 2, 2003, for the direct final rule that appeared in the Federal Register of August 15, 2002 (67 FR 53305). The direct final rule amends the administrative regulations governing who may act as a presiding officer at a regulatory hearing. This document confirms the effective date of the final rule.

DATES: Effective date confirmed: January 2, 2003.

FOR FURTHER INFORMATION CONTACT: Peter C. Beckerman, Office of the Chief Counsel (GCF-1), Food and Drug Administration, 5600 Fishers Lane, Rockville, MD 20857, 301-827-7144.

SUPPLEMENTARY INFORMATION: In the Federal Register of August 15, 2002 (67 FR 53305), FDA solicited comments concerning the direct final rule for a 75-day period ending October 29, 2002. FDA stated that the effective date of the direct final rule would be 30 days after the publication of this confirmation document in the Federal Register, unless any significant adverse comment was submitted to FDA during the comment period. FDA did not receive any significant adverse comments.

Therefore, under the Federal Food, Drug and Cosmetic Act (21 U.S.C. 321 et al.), and under the authority delegated to the Commissioner of Food and Drugs, the amendments issued thereby will go into effect on January 2, 2003.

Dated: November 26, 2002.
Margaret M. Dotzel,
Assistant Commissioner for Policy.

[FR Doc. 02-30483 Filed 11-29-02; 8:45 am]

BILLING CODE 4160-01-S